DEPARTMENT OF TRANSPORTATION

National Highway Traffic Safety Administration

[U.S. DOT Docket No. NHTSA-2013-0085]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before October 4, 2013.

ADDRESSES: You may submit comments identified by DOT Docket ID Number NHTSA-2013-0085 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://Docketslnfo.dot.gov.

FOR FURTHER INFORMATION CONTACT: Mr. Alan Block, Office of Behavioral Safety Research (NTI-131), National Highway Traffic Safety Administration, 1200 New Jersey Avenue SE., W46-499, Washington, DC 20590. Mr. Block's phone number is 202-366-6401 and his email address is alan.block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Focus Groups for Traffic Safety Programs, Interventions and Countermeasures

Type of Request—Renewal.

OMB Clearance Number—2127-0667.

Form Number—This collection of information uses no standard form.

Requested Expiration Date of Approval—3 years from date of approval.

Summary of the Collection of Information—The National Highway Traffic Safety Administration (NHTSA) proposes to renew its generic clearance to conduct focus groups. NHTSA anticipates the need to periodically conduct focus group sessions to refine its efforts to reduce traffic injuries and fatalities. Session participation would be voluntary and the focus group participants would receive remuneration for their involvement. Focus group topics will include: strategic messaging (e.g., slogans or advertisement concepts concerning seat belt use, impaired driving, driver distraction, tire pressure monitoring), problem identification (e.g., discussions with high-risk groups on beliefs, attitudes, driving behaviors, or reactions to interventions and countermeasures), and resource development (e.g., testing materials designed to communicate essential information about traffic safety issues such as vehicle or equipment performance rating systems). For each focus group project, NHTSA will submit an individual Information Collection Request (ICR) to the Office of Management and Budget (OMB) detailing the specific nature and methodology of planned focus group sessions prior to any collection activity covered under this generic clearance.

Description of the Need for the Information and Proposed Use of the Information—NHTSA was established by the Highway Safety Act of l970 (23 U.S. C. 101) to carry out a Congressional mandate to reduce the mounting number of deaths, injuries, and economic losses resulting from motor vehicle crashes on the Nation's highways. In support of this mission, NHTSA anticipates the occasional need to conduct focus group sessions in order to develop and refine effective interventions and countermeasures. NHTSA will use the findings from focus group sessions to help focus current programs, interventions and countermeasures in order to achieve the greatest benefit in decreasing crashes and resulting injuries and fatalities, and provide informational support to States, localities, and law enforcement agencies that will aid them in their efforts to reduce traffic crashes.

Description of the Likely Respondents (Including Estimated Number, and Proposed Frequency of Response to the Collection of Information)—Each year NHTSA anticipates conducting 140 focus groups, or 420 over the three year period under a renewed clearance. Likely respondents are licensed drivers 18 years of age and older who have not participated in a previous focus group session. In some cases, stakeholders such as law enforcement and health officials may participate in the focus groups. Each respondent would participate in one focus group.

Estimate of the Total Annual Reporting and Record Keeping Burden Resulting from the Collection of Information—NHTSA estimates that the number of focus group participants will average 10 per group, and that average duration per focus group will be 80 minutes. Participants will be recruited by intercept or telephone using a brief screening questionnaire estimated to take no more than another 10 minutes. Therefore, over a three year period, NHTSA estimates that the total burden will be 6300 hours (420 focus groups × 10 participants × 90 minutes). Total annual burden will be 2100 hours (140 focus groups × 10 participants × 90 minutes).

The respondents would not incur any reporting cost from the information collection. The respondents also would not incur any record keeping burden or record keeping cost from the information collection.

Authority: 44 U.S.C. Section 3506(c)(2)(A).

Issued on: July 31, 2013.
Jeff Michael,
Associate Administrator, Research and Program Development.

[FR Doc. 2013-18870 Filed 8-2-13; 8:45 am]

BILLING CODE 4910-59-P